DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 08N146B, Rockville, MD 20857; (301) 443-6593, or visit our Web site at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on May 1, 2016, through May 31, 2016. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading FOR FURTHER INFORMATION CONTACT), with a copy to HRSA addressed to Director, Division of Injury Compensation Programs, Healthcare Systems Bureau, 5600 Fishers Lane, 08N146B, Rockville, MD 20857. The Court's caption (Petitioner's Name v. Secretary of Health and Human Services) and the docket number assigned to the petition should be used as the caption for the written submission. Chapter 35 of title 44, United States Code, related to paperwork reduction, does not apply to information required for purposes of carrying out the Program.

Dated: June 22, 2016.
James Macrae,
Acting Administrator.

List of Petitions Filed

1. Joseph Moran, Phoenix, Arizona, Court of Federal Claims No: 16-0538V

2. Carlene Schultz, East Aurora, New York, Court of Federal Claims No: 16-0539V

3. James G. McLachlan, Bellingham, Washington, Court of Federal Claims No: 16-0542V

4. Melissa Roglitz-Walker on behalf of S. W., Fort Atkinson, Wisconsin, Court of Federal Claims No: 16-0543V

5. Sandra R. Hughes, Tuscaloosa, Alabama, Court of Federal Claims No: 16-0546V

6. Guy Sterling on behalf of A. S., Vienna, Virginia, Court of Federal Claims No: 16-0551V

7. Derek Bailey on behalf of J. B., Odenton, Maryland, Court of Federal Claims No: 16-0552V

8. Donna Williams on behalf of C. W., Atlanta, Georgia, Court of Federal Claims No: 16-0553V

9. Nancy N. Relyea, Colonie, New York, Court of Federal Claims No: 16-0555V

10. Hope O'Bannon, Rancho Cucamonga, California, Court of Federal Claims No: 16-0556V

11. Ashley Walls on behalf of K. W., Martinsburg, West Virginia, Court of Federal Claims No: 16-0557V

12. Heather Spracklen and Joe Higgins on behalf of M. H., Stillwater, Oklahoma, Court of Federal Claims No: 16-0559V

13. Richard Deckert, St. Louis, Missouri, Court of Federal Claims No: 16-0562V

14. Kenneth Craig, Lebanon, Indiana, Court of Federal Claims No: 16-0564V

15. Hunter Horsey on behalf of G. H., Clearwater, Florida, Court of Federal Claims No: 16-0565V

16. Elaine Moriarty, Plymouth Meeting, Pennsylvania, Court of Federal Claims No: 16-0566V

17. Margaret Zamora, Cleveland, Ohio, Court of Federal Claims No: 16-0567V

18. L. Nicole Moore, Tulsa, Oklahoma, Court of Federal Claims No: 16-0569V

19. Renate Davison, Aurora, Colorado, Court of Federal Claims No: 16-0571V

20. Suzanne Niedziela, Carle Place, New York, Court of Federal Claims No: 16-0572V

21. Paula Yost, Winchester, Virginia, Court of Federal Claims No: 16-0573V

22. Lincoln John and Daswattie John on behalf of K. J., Schenectady, New York, Court of Federal Claims No: 16-0574V

23. Shari Murray, Portland, Oregon, Court of Federal Claims No: 16-0575V

24. Susan Graney, Newport News, Virginia, Court of Federal Claims No: 16-0578V

25. Evangeline Stavretis, Fort Wayne, Indiana, Court of Federal Claims No: 16-0579V

26. Dolores Smoot, Cleveland, Ohio, Court of Federal Claims No: 16-0580V

27. Karie N. DuVernay on behalf of W. R. D., Charlotte, North Carolina, Court of Federal Claims No: 16-0582V

28. Josh Swan, Nashua, New Hampshire, Court of Federal Claims No: 16-0583V

29. Rebecca Schleif, Baraboo, Wisconsin, Court of Federal Claims No: 16-0584V

30. Linda Bailey, Charleston, West Virginia, Court of Federal Claims No: 16-0585V

31. Nancy Tyree, White Plains, Maryland, Court of Federal Claims No: 16-0586V

32. Timothy Selling, Scottsdale, Arizona, Court of Federal Claims No: 16-0588V

33. Jeffrey Schafer, Ravenna, Ohio, Court of Federal Claims No: 16-0593V

34. Patricia Miller, Beverly Hills, California, Court of Federal Claims No: 16-0595V

35. Leah Mims and Donelle Mims on behalf of J. M., Deceased, Stone Mountain, Georgia, Court of Federal Claims No: 16-0596V

36. Robert Rhodes, Greensboro, North Carolina, Court of Federal Claims No: 16-0597V

37. Teresa Polzin, Linwood, New Jersey, Court of Federal Claims No: 16-0598V

38. Eric Heagney, Asheville, North Carolina, Court of Federal Claims No: 16-0601V

39. Sheila R. Young, Oneida, New York, Court of Federal Claims No: 16-0602V

40. Jeanette Eiland, Milwaukee, Wisconsin, Court of Federal Claims No: 16-0603V

41. Aileen Harris, Phoenix, Arizona, Court of Federal Claims No: 16-0604V

42. Debora Brown, San Antonio, Texas, Court of Federal Claims No: 16-0605V

43. Michele Dominianni, New City, New York, Court of Federal Claims No: 16-0606V

44. Catherine Cintron on behalf of E. C., Richmond, Virginia, Court of Federal Claims No: 16-0608V

45. Kathleen Nolan, North Tonawanda, New York, Court of Federal Claims No: 16-0609V

46. John Coleman, Dallas, Texas, Court of Federal Claims No: 16-0610V

47. Russell Green, Concord, Massachusetts, Court of Federal Claims No: 16-0612V

48. Gilmore Wright, II, Buford, Georgia, Court of Federal Claims No: 16-0615V

49. David Johnson, San Antonio, Texas, Court of Federal Claims No: 16-0616V

50. Abigail Michel, Roswell, Georgia, Court of Federal Claims No: 16-0617V

51. Melissa Goyne, Dresher, Pennsylvania, Court of Federal Claims No: 16-0619V

52. Irene Schurley, Las Vegas, Nevada, Court of Federal Claims No: 16-0621V

53. Deborah Marino, Newtown, Pennsylvania, Court of Federal Claims No: 16-0622V

54. Cheryl Zanghi, Washington, District of Columbia, Court of Federal Claims No: 16-0625V

55. Leah Soos, Washington, District of Columbia, Court of Federal Claims No: 16-0626V

56. Lauren Ochoa on behalf of Scarlet Ochoa, Deceased, Seattle, Washington, Court of Federal Claims No: 16-0627V

57. Marion Crank, Jr., Beverly Hills, California, Court of Federal Claims No: 16-0628V

58. Mary Katherine Shadix, Beverly Hills, California, Court of Federal Claims No: 16-0629V

59. Diane Scott, Beverly Hills, California, Court of Federal Claims No: 16-0630V

60. Theodore Worley, Beverly Hills, California, Court of Federal Claims No: 16-0631V

61. Melissa Larson, Baraboo, Wisconsin, Court of Federal Claims No: 16-0633V

62. Wei-Ti Chen, New Haven, Connecticut, Court of Federal Claims No: 16-0634V

63. Maxine Ward, Memphis, Tennessee, Court of Federal Claims No: 16-0635V

64. Michael Miller, Washington, District of Columbia, Court of Federal Claims No: 16-0637V

65. Jake Peters, Los Angeles, California, Court of Federal Claims No: 16-0638V

66. Sharon G. Ortagus, Palatka, Florida, Court of Federal Claims No: 16-0639V

67. Sarah Graham, Washington, District of Columbia, Court of Federal Claims No: 16-0640V

68. Ronald L. Edwards, Washington, District of Columbia, Court of Federal Claims No: 16-0641V

69. Kellie Dovre, Farmington Hills, Michigan, Court of Federal Claims No: 16-0642V

70. Jessica Brooks, Washington, District of Columbia, Court of Federal Claims No: 16-0643V

71. Joan Hudgens, Dallas, Texas, Court of Federal Claims No: 16-0644V

72. Jennifer Jefko on behalf of K.L., Chicago, Illinois, Court of Federal Claims No: 16-0645V

73. Marie O'Donnell, Sarasota, Florida, Court of Federal Claims No: 16-0646V

[FR Doc. 2016-15207 Filed 6-27-16; 8:45 am]

BILLING CODE 4165-15-P